DEPARTMENT OF HOUSING AND URBAN DEVELOPMENT

[Docket No. FR-4882-N-02]

America's Affordable Communities Initiative, HUD's Initiative on Removal of Regulatory Barriers: Proposals for Incentive Criteria on Barrier Removal in HUD's Funding Allocations; Extension of Public Comment Deadline

AGENCY: Office of the General Counsel, HUD.

ACTION: Notice.

SUMMARY: On November 25, 2003, HUD published a notice that announced HUD's intention to establish in the majority of its FY2004 Notices of Funding Availability (NOFAs), including HUD's SuperNOFA, a policy priority for increasing the supply of affordable housing through the removal of regulatory barriers. This new policy priority will be added to the list of policy priorities that HUD traditionally includes in its NOFAs. As a policy priority (and like the other policy priorities), higher rating points will be available to governmental applicants that are able to demonstrate successful efforts in removing regulatory barriers to affordable housing, and to nongovernmental applicants that are associated with jurisdictions that have undertaken successful efforts in removing barriers. HUD also solicited comment on the November 25, 2003, notice. The purpose of this notice is to announce that the public comment due date has been extended to January 12, 2004.

DATES: Comment Due Date: January 12, 2004.

ADDRESSES: Interested persons are invited to submit comments regarding this rule to the Regulations Division, Office of General Counsel, Room 10276, Department of Housing and Urban Development, 451 Seventh Street, SW., Washington, DC 20410-0500. Comments should refer to the above docket number and title. A copy of each communication submitted will be available for public inspection and copying during regular business hours (weekdays 8 a.m. to 5 p.m. Eastern time) at the above address. Facsimile (FAX) comments are not acceptable.

FOR FURTHER INFORMATION CONTACT: Camille E. Acevedo, Associate General Counsel for Legislation and Regulations, Office of General Counsel, Room 10282, Department of Housing and Urban Development, 451 Seventh Street, SW., Washington, DC 20410-0500, telephone (202) 708-1793 (this is not a toll-free number). Persons with hearing or speech impairments may access this number through TTY by calling the toll-free Federal Information Relay Service at (800) 877-8339.

SUPPLEMENTARY INFORMATION: As noted in the Summary portion of this notice, on November 25, 2003 (68 FR 66294), HUD announced its intention to establish in the majority of its FY2004 Notices of Funding Availability (NOFAs), including HUD's SuperNOFA, a policy priority for increasing the supply of affordable housing through the removal of regulatory barriers. The November 25, 2003, notice describes in detail the proposal and also solicited public comment, and provided a public comment through December 29, 2003. The purpose of this notice published in today's Federal Register is to announce that the public comment due date has been extended to January 12, 2004.

Dated: December 16, 2003.
A. Bryant Applegate,
Senior Counsel and Director of America's Affordable Communities Initiative.

[FR Doc. 03-31399 Filed 12-19-03; 8:45 am]

BILLING CODE 4210-67-P